NUCLEAR REGULATORY COMMISSION

[NRC-2020-0001]

Sunshine Act Meetings

TIME AND DATE: Weeks of October 5, 12, 19, 26, November 2, 9, 2020.

PLACE: Commissioners' Conference Room, 11555 Rockville Pike, Rockville, Maryland.

STATUS: Public.

MATTERS TO BE CONSIDERED:

Week of October 5, 2020

Thursday, October 8, 2020

9:55 a.m. Affirmation Session (Public Meeting) (Tentative)

a. Crow Butte Resources, Inc. (In Situ Leach Uranium Recovery Facility) Applicant's Petition for Review of LBP-16-7 and LBP-15-11 (Tentative)

b. Powertech (USA), Inc. (Dewey-Burdock In Situ Recovery Facility); Petitions for Review (Tentative)

c. Exelon Generation Company, LLC (Three Mile Island Nuclear Station, Units 1 and 2), Referred Motion Relating to LBP-20-2 (Denial of Hearing Request Relating to Emergency Planning License Amendment) (Tentative); (Contact: Denise McGovern: 301-415-0681)

Additional Information: Due to COVID-19, there will be no physical public attendance. The public is invited to attend the Commission's meeting live by webcast at the Web address— https://www.nrc.gov/.

Thursday, October 8, 2020

10:00 a.m. Meeting with the Organization of Agreement States and the Conference of Radiation Control Program Directors (Public Meeting); (Contact: Celimar Valentin-Rodriguez: 301-415-7124)

Additional Information: Due to COVID-19, there will be no physical public attendance. The public is invited to attend the Commission's meeting live by webcast at the Web address— https://www.nrc.gov/.

Week of October 12, 2020—Tentative

There are no meetings scheduled for the week of October 12, 2020.

Week of October 19, 2020—Tentative

Wednesday, October 21, 2020

9:30 a.m. Briefing on Human Capital and Equal Employment Opportunity (Public Meeting); (Contact: Randi Neff: 301-287-0583)

Additional Information: The meeting scheduled on October 21, 2020 at 9:30 a.m., Briefing on Human Capital and Equal Employment Opportunity, was previously scheduled to start at 10:00 a.m. Due to COVID-19, there will be no physical public attendance. The public is invited to attend the Commission's meeting live by webcast at the Web address— https://www.nrc.gov/.

1:00 p.m. All Employees Meeting with the Commissioners (Public Meeting); (Contact: Maria Arribas-Colon: 301-415-6026)

Additional Information: Due to COVID-19, there will be no physical public attendance. The public is invited to attend the Commission's meeting live by webcast at the Web address— https://www.nrc.gov/.

Week of October 26, 2020—Tentative

There are no meetings scheduled for the week of October 26, 2020.

Week of November 2, 2020—Tentative

Thursday, November 5, 2020

9:00 a.m. Strategic Programmatic Overview of the Decommissioning and Low-Level Waste and Nuclear Materials Users Business Lines (Public Meeting); (Contact: Celimar Valentin- Rodriguez: 301-415-7124)

Additional Information: Due to COVID-19, there will be no physical public attendance. The public is invited to attend the Commission's meeting live by webcast at the Web address— https://www.nrc.gov/.

Week of November 9, 2020—Tentative

There are no meetings scheduled for the week of November 9, 2020.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at:

https://www.nrc.gov/public-involve/public-meetings/schedule.html.

The NRC provides reasonable accommodation to individuals with disabilities where appropriate. If you need a reasonable accommodation to participate in these public meetings or need this meeting notice or the transcript or other information from the public meetings in another format (e.g., braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov or Tyesha.Bush@nrc.gov.

The NRC is holding the meetings under the authority of the Government in the Sunshine Act, 5 U.S.C. 552b.

Dated: October 1, 2020.
For the Nuclear Regulatory Commission.
Denise L. McGovern,
Policy Coordinator,Office of the Secretary.

[FR Doc. 2020-22055 Filed 10-1-20; 4:15 pm]

BILLING CODE 7590-01-P